DEPARTMENT OF EDUCATION

[Docket ID ED-2023-FSA-0088]

Privacy Act of 1974; Matching Program

AGENCY: Federal Student Aid, U.S. Department of Education.

ACTION: Notice of a new matching program.

SUMMARY: Pursuant to the Privacy Act of 1974, as amended by the Computer Matching and Privacy Protection Act of 1988 and the Computer Matching and Privacy Protection Amendments of 1990 (Privacy Act) and Office of Management and Budget (OMB) guidance on the conduct of matching programs, notice is hereby given of the re-establishment of the matching program between the U.S. Department of Education (ED or Department), as the recipient agency, and the Social Security Administration (SSA), as the source agency, to assist the Department in meeting its obligations under title IV of the Higher Education Act of 1965, as amended (HEA), including to ensure that applicants for title IV, HEA program assistance satisfy eligibility requirements.

DATES: The period of this matching program is estimated to cover the 12-month period from October 11, 2023, through October 10, 2024. However, the computer matching agreement (CMA) will become applicable at the later of the following two dates: October 11, 2023, or 30 days after the publication of this notice, on September 8, 2023, unless comments have been received from interested members of the public requiring revision to and republication of the notice. The matching program will continue for 12 months after the applicable date and may be extended for up to an additional 12 months, if the respective agency Data Integrity Boards (DIBs) determine that the conditions specified in 5 U.S.C. 552a(o)(2)(D) have been met.

ADDRESSES: Comments must be submitted via the Federal eRulemaking Portal at regulations.gov. However, if you require an accommodation or cannot otherwise submit your comments via regulations.gov, please contact the program contact person listed under FOR FURTHER INFORMATION CONTACT. The Department will not accept comments submitted by fax or by email, or comments submitted after the comment period. To ensure that the Department does not receive duplicate copies, please submit your comments only once. In addition, please include the Docket ID at the top of your comments.

Federal eRulemaking Portal: Go to www.regulations.gov to submit your comments electronically. Information on using Regulations.gov, including instructions for accessing agency documents, submitting comments, and viewing the docket, is available on the site under the “FAQ” tab.

Privacy Note: The Department's policy is generally to make comments received from members of the public available for public viewing in their entirety on the Federal eRulemaking Portal at www.regulations.gov. Therefore, commenters should be careful to include in their comments only information that they wish to make publicly available.

FOR FURTHER INFORMATION CONTACT: Gerard Duffey, Management and Program Analyst, U.S. Department of Education, Federal Student Aid, Philadelphia, PA 19107. Telephone: (215) 656-3249.

If you are deaf, hard of hearing, or have a speech disability and wish to access telecommunications relay services, please dial 7-1-1.

SUPPLEMENTARY INFORMATION: In accordance with the Privacy Act; OMB “Final Guidance Interpreting the Provisions of Public Law 100-503, the Computer Matching and Privacy Protection Act of 1988,” published in the Federal Register on June 19, 1989 (54 FR 25818); and OMB Circular No. A-108, notice is hereby provided of the re-establishment of the matching program between SSA and ED to assist ED in the verification of Social Security numbers (SSNs), confirmation of citizenship status as recorded in SSA records, and death indicators (when applicable) of individuals who initiate the steps associated with accessing programs authorized by title IV of the Higher Education Act, or participating in the application process for such assistance, to assist ED in meeting its obligations under title IV of the HEA, including to ensure that applicants for Title IV, HEA program assistance satisfy eligibility requirements.

Participating Agencies

ED and SSA.

Authority for Conducting the Matching Program

ED's legal authority to enter into the CMA includes:

• Section 484(p) of the HEA (20 U.S.C. 1091(p)) (which will be section 484(o) of the HEA (20 U.S.C. 1091(o)) following implementation of the FAFSA Simplification Act on July 1, 2024);

• Section 484(g) of the HEA (20 U.S.C. 1091(g));

• Section 483(a)(12) of the HEA (20 U.S.C. 1090(a)(12)) (which will be section 483(a)(2)(B) (20 U.S.C. 1090(a)(2)(B)) following implementation of the FAFSA Simplification Act);

• Section 428B(f) of the HEA (20 U.S.C. 1078-2(f));

• Sections 427, 432, 451, 483, and 484 of the HEA (20 U.S.C. 1077, 1082, 1087a, 1090, and 1091); and

• Subsection (b)(3) of the Privacy Act (5 U.S.C. 552a(b)(3)).

SSA is authorized to participate in the matching program under section 1106 of the Social Security Act (42 U.S.C. 1306) and the regulations promulgated pursuant to that section (20 CFR part 401), and subsection (b)(3) the Privacy Act (5 U.S.C. 552a(b)(3)). Section 7213 of the Intelligence Reform and Terrorism Prevention Act of 2004 provides SSA authority to add a death indicator to verification routines that SSA determines to be appropriate.

Purpose(s)

The CMA establishes the terms, safeguards, and procedures under which the SSA will provide to ED SSN verification, citizenship status as recorded in SSA records, and death indicators (when applicable) of individuals who initiate the steps associated with accessing programs authorized by title IV of the HEA, or participating in the application process for such assistance, to assist ED in meeting its obligations under title IV of the HEA, including to ensure that applicants for title IV, HEA program assistance satisfy eligibility requirements.

Categories of Individuals

Under the CMA, ED will send to SSA records on individuals who apply for Federal student financial assistance through the Free Application for Federal Student Aid (FAFSA®) and on individuals who initiate the steps associated with accessing programs administered under the authority of title IV of the HEA. These individuals also include the parents of dependent students and applicants for Federal PLUS loans.

Under the CMA, SSA will match ED's records to its files on each individual who has applied for, and obtained, an SSN.

Categories of Records

The specific data elements that ED will transmit to SSA are: SSN, first name, last name, and date of birth (DOB).

SSA's system of records involved in the matching program maintains information required to apply for, and obtain, an SSN. The specific data elements that SSA will send back to ED include: SSN, first name, last name, DOB, and an SSA verification code on each record to indicate the match results. The verification codes are: 1 = No match on SSN, 3 = SSN match, name match, no match on DOB, 5 = SSN match, no match on name, DOB not checked, 6 = SSN not verified, Blank = SSN match, name match, DOB match. SSA will also send a death indicator if one is present on SSA's database for the record. Records returned from SSA also will include a citizenship status code as follows: A = U.S. citizen, B = legal alien, eligible to work, C = legal alien, not eligible to work, D = other, E = alien, student restricted, F = conditionally legalized alien, * = foreign born, Blank = domestic born (U.S. citizen), N = unable to verify citizenship due to no match on name, DOB, or SSN.

System(s) of Records

There are two ED systems of records notices that cover information disclosed by ED to SSA in this matching program. The first is entitled, “Aid Awareness and Application Processing” (AAAP)(18-11-21), and was last fully published in the Federal Register on June 15, 2023 (88 FR 39233-39248) (available at: https://www.federalregister.gov/documents/2023/06/15/2023-12831/privacy-act-of-1974-system-of-records). Note: The Central Processing System (CPS) and FAFSA Processing System (FPS) are the ED information systems that process FAFSA data. CPS will process this data through September 30, 2024, for Award Year (AY) 2023-2024. FPS will become operational on or after December 1, 2023, and begin processing FAFSA data for AY 2024-25. After September 30, 2024, CPS will be decommissioned and be fully replaced by FPS. FPS will process data for all AYs thereafter. The second system of records notice is entitled, “Person Authentication Service (PAS)” (18-11-12) and was last fully published in the Federal Register on July 28, 2023 (88 FR 48817-48824) (available at: https://www.federalregister.gov/documents/2023/07/28/2023-16001/privacy-act-of-1974-system-of-records). This is the system of records that covers the records of applicants for FSA IDs. In addition, ED will maintain the information that it receives back from SSA in the “Common Origination and Disbursement (COD) System” (18-11-02), for which ED last fully published a system of records notice in the Federal Register on June 28, 2023 (88 FR 41942-41951) (available at: https://www.federalregister.gov/documents/2023/06/28/2023-13698/privacy-act-of-1974-system-of-records).

SSA's system of records involved in this matching program is entitled, “Master Files of Social Security Number (SSN) Holders and SSN Applications” (Enumeration System) 60-0058, last fully published in the Federal Register on January 4, 2022 (87 FR 263-267).

Accessible Format: Individuals with disabilities can obtain this document in an accessible format (e.g., braille, large print, or audiotape) by contacting the contact person listed in the preceding paragraph.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Richard Cordray,
Chief Operating Officer Federal Student Aid.

[FR Doc. 2023-19446 Filed 9-7-23; 8:45 am]

BILLING CODE 4000-01-P